DEPARTMENT OF COMMERCE

International Trade Administration

[A-570-920]

Lightweight Thermal Paper From the People's Republic of China: Rescission of Antidumping Duty Administrative Review; 2012-2013

AGENCY: Enforcement and Compliance, formerly Import Administration, International Trade Administration, Department of Commerce.

SUMMARY: The Department of Commerce (“Department”) is rescinding the administrative review of the antidumping duty order on lightweight thermal paper from the People's Republic of China (“PRC”) for the period November 1, 2012, through October 31, 2013.

DATES: Effective: April 10, 2014.

FOR FURTHER INFORMATION CONTACT: Demitrios Kalogeropoulos or Brendan Quinn, AD/CVD Operations, Office III, Enforcement & Compliance, International Trade Administration, Department of Commerce, 14th Street and Constitution Avenue NW., Washington, DC 20230; telephone: (202) 482-2623 or (202) 482-5848, respectively.

SUPPLEMENTARY INFORMATION:

Background

On December 30, 2013, based on a timely request for review by Appvion, Inc. (formerly known as Appleton Papers Inc.) (“Petitioner”), the Department published in the Federal Register a notice of initiation of an administrative review of the antidumping duty order on lightweight thermal paper from the PRC covering the period November 1, 2012, through October 31, 2013.¹ The review covers 19 companies: Anne (Hong Kong) Co., Ltd.; Gold Hua Sheng Paper (Suzhou Industrial Park) Co., Ltd.; Guangdong Guanhao High-Tech Co., Ltd.; Henan Jianghe Paper Co., Ltd.; Henan Province Jianghe Paper Co., Ltd.; JHT Paper; Jianghe Paper Co., Ltd.; Jinan Fuzhi Paper Co.; MDCN Technology Co., Ltd.; New Pride Co., Ltd.; Sailing International; Shanghai Hanhong Paper Co., Ltd. and Hanhong International Limited; Shenzhen Likexin Industrial Co., Ltd.; Shenzhen Taizhou Industrial Development Co., Ltd.; Shenzhen Yuanming Industrial Development Co., Ltd.; Suzhou Cannwell Thermal Paper Ltd.; Suzhou Guanhua Paper Factory; Suzhou Xiandai Paper Production Co.; and Xiamen Anne Paper Co., Ltd. On March 27, 2014, Petitioner withdrew its request for an administrative review of the 19 companies listed above.

¹ See Initiation of Antidumping and Countervailing Duty Administrative Reviews and Request for Revocation in Part, 78 FR 79392, 79397 (December 30, 2013).

Rescission of Review

Pursuant to 19 CFR 351.213(d)(1), the Department will rescind an administrative review if the party that requested the review withdraws its request within 90 days of the publication of the notice of initiation of the requested review. Petitioner withdrew its request within the 90-day deadline. No other parties requested an administrative review of the antidumping duty order. As a result, we are rescinding the administrative review of lightweight thermal paper from the PRC for the period November 1, 2012, through October 31, 2013.

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: April 3, 2014.
Christian Marsh,
Deputy Assistant Secretary, for Antidumping and Countervailing Duty Operations.

[FR Doc. 2014-08112 Filed 4-9-14; 8:45 am]

BILLING CODE 3510-DS-P